DEPARTMENT OF JUSTICE

Antitrust Division

Notice Pursuant to the National Cooperative Research and Production Act of 1993—The Applied Nanotechnology Consortium

Notice is hereby given that, on March 26, 2010, pursuant to Section 6(a) of the National Cooperative Research and Production Act of 1993, 15 U.S.C. 4301 et seq. (“the Act”), The Applied Nanotechnology Consortium (“TANC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Connecticut Center for Advanced Technology, Inc., East Hartford, CT; Ensign-Bickford Aerospace and Defense, Simsbury, CT; GKN Aerospace Services Structures Corporation, Cromwell, CT; Imperial Machine Tool Co., Columbia, NJ; Kaman Precision Products-Fuzing, Middletown, CT; University of Bridgeport, Bridgeport, CT; University of Connecticut, Storrs, CT; and the University of Hartford, West Hartford, CT. The general areas of TANC's planned activities are to perform coordinated planning and research and development prototype efforts designed to encompass the following as it relates to nanotechnology: (a) Nanoparticle Production Methods/Processing of Nano Composites; (b) Laser Processing of Nano-Composite Materials; (c) Nanotech Education; (d) Nano Energetics and Safe & Arming Solutions; and (e) Advanced Structural Materials and Systems.

Patricia A. Brink,
Deputy Director of Operations, Antitrust Division.

[FR Doc. 2010-12031 Filed 5-19-10; 8:45 am]

BILLING CODE 4410-11-M